ENVIRONMENTAL PROTECTION AGENCY

40 CFR Part 52

[EPA-R03-OAR-2010-0386; FRL-9901-39-Region 3]

Approval and Promulgation of Air Quality Implementation Plans; Maryland; Revision to Emission Limitations for R. Paul Smith Power Station; Withdrawal of Proposed Rule

AGENCY: Environmental Protection Agency (EPA).

ACTION: Withdrawal of proposed rule.

SUMMARY: On June 18, 2010 (75 FR 34670), EPA published a proposed rulemaking action to approve a revision to the Maryland State Implementation Plan (SIP). The revision pertains to revised emission limitations for the R. Paul Smith Power Station located in Washington County, Maryland. On July 20, 2013, the State of Maryland requested withdrawal of this SIP revision. This SIP revision is no longer pending before EPA. Therefore, EPA is withdrawing its proposed rulemaking action to approve the revised emission limitations for the R. Paul Smith Power Station contained in the withdrawn SIP revision. This withdrawal action is being taken under section 110 of the Clean Air Act.

DATES: The proposed rule published on June 18, 2010 (75 FR 34670), is withdrawn as of September 26, 2013.

ADDRESSES: EPA has established docket number EPA-R03-OAR-2010-0386 for this action. The index to the docket is available electronically at http://www.regulations.gov and in hard copy at Air Protection Division, U.S. Environmental Protection Agency, Region III, 1650 Arch Street, Philadelphia, Pennsylvania 19103.

FOR FURTHER INFORMATION CONTACT: Maria A. Pino, (215) 814-2181, or by email at pino.maria@epa.gov.

List of Subjects in 40 CFR Part 52

Environmental protection, Air pollution control, Nitrogen dioxide, Ozone, Particulate matter, Sulfur dioxide.

Dated: September 13, 2013
W.C. Early,
Acting Regional Administrator, Region III.

[FR Doc. 2013-23507 Filed 9-25-13; 8:45 am]

BILLING CODE 6560-50-P